DEPARTMENT OF COMMERCE

Foreign-Trade Zones Board

[Docket 17-2000]

Foreign-Trade Zone 8—Toledo, Ohio; Application for Subzone, Sunoco Inc. (Oil Refinery Complex), Toledo, Ohio

An application has been submitted to the Foreign-Trade Zones Board (the Board) by the Toledo-Lucas County Port Authority, grantee of FTZ 8, requesting special-purpose subzone status for the oil refinery complex of Sunoco Inc., located in Toledo, Ohio. The application was submitted pursuant to the provisions of the Foreign-Trade Zones Act, as amended (19 U.S.C. 81a-81u), and the regulations of the Board (15 CFR part 400). It was formally filed on May 3, 2000.

The refinery complex (150,000 BPD capacity) is located on four sites near Toledo, Ohio: Site 1 (174.96 acres)—main refinery complex, located at 1819 Woodville Rd., Oregon, Ohio; Site 2 (138.31 acres, 30 storage tanks)—Number Two Tank Farm, located at Pickle Road and Wheeling Street, Oregon, Ohio; Site 3 (64.588 acres)—marine terminal located at the Maumee River Marine Terminal, Front and Consul Streets, Toledo, Ohio; Site 4 (32.8 acres)—35 underground right-of-way parcels, providing 5 miles of pipelines between the marine terminal in Toledo and the main refinery complex in Oregon, Ohio. The refinery (300 employees) is used to produce fuels and liquid petroleum gases, including gasoline, jet fuel, distillates, residual fuels, naphthas, and aromatics. Refinery by-products include petroleum coke, asphalt and sulfur. Some 10 percent of the crude oil (96 percent of inputs), and some naphthas, virgin gas oil and motor fuel blendstocks are sourced abroad.

Zone procedures would exempt the refinery from Customs duty payments on the foreign products used in its exports. On domestic sales, the company would be able to choose the Customs duty rates that apply to certain petrochemical feedstocks and refinery by-products (duty-free) by admitting incoming foreign crude oil in non-privileged foreign status. The duty rates on inputs range from 5.25 cents/barrel to 10.5 cents/barrel. The application indicates that the savings from zone procedures would help improve the refinery's international competitiveness.

In accordance with the Board's regulations, a member of the FTZ Staff has been designated examiner to investigate the application and report to the Board.

Public comment is invited from interested parties. Submissions (original and 3 copies) shall be addressed to the Board's Executive Secretary at the address below. The closing period for their receipt is July 17, 2000. Rebuttal comments in response to material submitted during the foregoing period may be submitted during the subsequent 15-day period to July 31, 2000.

A copy of the application and the accompanying exhibits will be available for public inspection at each of the following locations:

U.S. Department of Commerce, Export Assistance Center, 300 Madison Avenue, Toledo, Ohio 43604

Office of the Executive Secretary, Foreign-Trade Zones Board, Room 4008, U.S. Department of Commerce, 14th and Pennsylvania Avenue, N.W., Washington, D.C. 20230

Dated: May 7, 2000.
Dennis Puccinelli,
Acting Executive Secretary.

[FR Doc. 00-12207 Filed 5-15-00; 8:45 am]

BILLING CODE 3510-DS-P